Proclamation 8452 of November 9, 2009

World Freedom Day, 2009

By the President of the United States of America

A Proclamation

Twenty years ago today, the Wall came down in Berlin and both a country and a continent came together. After thousands of East Berliners flooded through checkpoints into West Berlin, border restrictions dissolved across Eastern Bloc countries. The Iron Curtain that divided Europe for decades finally fell, ushering in a new era of freedom and cooperation. On this anniversary, we are reminded that no challenge is too great for a world united in common purpose.

After the Berlin Wall fell, oppressive regimes across the globe gave way. From Kiev to Cape Town, prison camps closed and democracy’s doors were unlocked for millions who had known only tyranny. Markets opened too, spreading information and technology that empowered once-insolvent nations to achieve prosperity. Twenty years later, our world is more interconnected than at any time in human history, giving rise to new opportunities for shared progress.

Today, the barriers that challenge our world are not walls of cement and iron, but ones of fear, irresponsibility, and indifference. History reminds us that such walls can be torn down, but where they still exist we must work with all nations to strengthen civil societies, support democratic institutions and the rule of law, and promote free and fair electoral processes. Upholding these principles into the 21st century will require America’s enduring commitment and steady leadership.

From our first days as a Nation, Americans have felt a sense of urgency and determination to promote liberty and release the potential within each individual to contribute to the common good. On World Freedom Day, we celebrate the thriving democracies of Central and Eastern Europe, and we honor their citizens’ right to choose their own destinies and contribute to their nations’ future success.

NOW, THEREFORE, I, BARACK OBAMA, President of the United States of America, by virtue of the authority vested in me by the Constitution and the laws of the United States, do hereby proclaim November 9, 2009, as World Freedom Day. I call upon the people of the United States to observe this day in fellowship with other nations and people of the world with appropriate ceremonies and activities, reaffirming our dedication to freedom and democracy.

IN WITNESS WHEREOF, I have hereunto set my hand this ninth day of November, in the year of our Lord two thousand nine, and of the Independence of the United States of America the two hundred and thirty-fourth.

[FR Doc. E9-27366

Filed 11-10-09; 11:15 am]

Billing code 3195-W9-P